DEPARTMENT OF ENERGY

Federal Energy Regulatory Commission

[Docket No. RP00-276-000]

Kinder Morgan Interstate Gas Transmission LLC; Notice of Tariff Filing

May 16, 2000.

Take notice that on May 10, 2000, Kinder Morgan Interstate Gas Transmission LLC (KMIGT) tendered for filing to become part of its FERC Gas Tariff, the following revised tariff sheets, to be effective June 1, 2000:

Fourth Revised Volume No. 1-B

First Revised Sheet No. 89A

First Revised Sheet No. 90

Original Sheet No. 90A

First Revised Sheet No. 91

First Revised Sheet No. 92

Second Revised Volume No. 1-D

First Revised Sheet No. 71A

First Revised Sheet No. 72

Original Sheet No. 72A

First Revised Sheet No. 73

First Revised Sheet No. 74

KMIGT states that the purpose of this filing is to make the changes in KMIGT's Tariff related to Internet communication. KMIGT has also updated related tariff references regarding electronic communications.

Any person desiring to be heard or to protest said filing should file a motion to intervene or a protest with the Federal Energy Regulatory Commission, 888 First Street NE, Washington, DC 20426, in accordance with Sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-12717 Filed 5-19-00; 8:45 am]

BILLING CODE 6717-01-M